DEPARTMENT OF DEFENSE

Office of the Secretary

[Req No. OS-2024-00032]

Defense Science Board; Notice of Federal Advisory Committee Meeting

AGENCY: Under Secretary of Defense for Research and Engineering (USD(R&E)), Department of Defense (DoD).

ACTION: Notice of Federal Advisory Committee meeting.

SUMMARY: The DoD is publishing this notice to announce that the following Federal Advisory Committee meeting of the Defense Science Board (DSB) will take place.

DATES: Closed to the public Wednesday, November 8, 2023, from 8:00 a.m. to 3:50 p.m. and Thursday, November 9, 2023 from 9:00 a.m. to 4:30 p.m.

ADDRESSES: The address of the closed meeting is the Pentagon, Rooms 5E732 and 3A912A, Washington, DC, 20301.

FOR FURTHER INFORMATION CONTACT: Ms. Elizabeth J. Kowalski, Designated Federal Officer (DFO): (703) 571-0081 (Voice), (703) 697-1860 (Facsimile), elizabeth.j.kowalski.civ@mail.mil, (Email). Mailing address is Defense Science Board, 3140 Defense Pentagon, Washington, DC 20301-3140. Website: http://www.acq.osd.mil/dsb/. The most up-to-date changes to the meeting agenda can be found on the website.

SUPPLEMENTARY INFORMATION: Due to circumstances beyond the control of the Designated Federal Officer, the Defense Science Board was unable to provide public notification required by 41 CFR 102-3.150(a) concerning its November 8-9, 2023 meeting. Accordingly, the Advisory Committee Management Officer for the Department of Defense, pursuant to 41 CFR 102-3.150(b), waives the 15-calendar day notification requirement.

This meeting is being held under the provisions of chapter 10 of title 5, United States Code (U.S.C.) (commonly known as the “Federal Advisory Committee Act” or “FACA”), 5 U.S.C. 552b (commonly known as the “Government in the Sunshine Act”), and sections 102-3.140 and 102-3.150 of title 41, Code of Federal Regulations (CFR).

Purpose of the Meeting: The mission of the DSB is to provide independent advice and recommendations on matters relating to the DoD's scientific and technical enterprise. The objective of the meeting is to obtain, review, and evaluate classified information related to the DSB's mission. DSB membership will meet with DoD Leadership to discuss classified current and future national security challenges and priorities within the DoD.

Agenda: The meeting will begin on Wednesday, November 8, 2023 at 8:00 a.m. Eastern Standard time (EST), Ms. Betsy Kowalski, Designated Federal Officer and Dr. Eric Evans, Chair of the DSB, will provide classified opening remarks regarding ongoing studies. Next, the Security Assistance Group-Ukraine will provide a classified briefing on updates regarding the conflict in Ukraine. After a short break, the DSB will receive a classified briefing from Honorable Douglas. R. Bush, Acting Assistant Secretary of the Army (Acquisition, Logistics and Technology) on the Army's acquisition priorities. Following a break, Dr. Katherine McGrady and Dr. Robert Wisnieff, DSB Members, will provide a classified briefing on the Defense Science Board's Task Force to Advise Implementation and Prioritization of National Security Innovation Activities findings and recommendations, followed by a DSB vote. After a break, the board will receive a classified briefing from Mr. Frederick J. Stefany, Acting Assistant Secretary of the Navy for Research, Development and Acquisition on the Navy's acquisition priorities. Lastly, Mr. William B. “Willie” Nelson, Deputy to the Commanding General, Army Futures Command, will provide a classified briefing on Army Future Command's acquisition priorities. The meeting will adjourn at 3:50 p.m. EST.

The meeting will continue on Thursday, November 9, 2023 at 9:00 a.m. EST with a classified briefing from Dr. Philip Root [Army Lieutenant Colonel (ret), Ph.D.], Director of the Strategic Technology Office (STO) of Defense Advanced Research Projects Agency on STO's acquisition priorities. This will be followed by a classified briefing provided by Mr. Andrew P. Hunter, Service Acquisition Executive for the United States Air Force (USAF), on the USAF's acquisition priorities. Following a break, Dr. Derek Tournear, Director, Space Development Agency (SDA), will provide a classified overview of SDA's overview. After a break, Dr. Robert Grossman and Dr. Mark Maybury, DSB Members, will provide a classified briefing on the DSB's Task Force on Digital Engineering Capability to Automate Testing and Evaluation findings and recommendations, followed by a DSB vote. After a break, the board will receive a classified briefing from Dr. David Van Wie, DSB Member, regarding the DSB's Task Force on Test and Evaluation findings and recommendations, followed by a DSB vote. The meeting will adjourn at 4:30 p.m. EST.

Meeting Accessibility: In accordance with 5 U.S.C. 1009(d) and 41 CFR 102-3.155, the DoD has determined that the DSB meeting will be closed to the public. Specifically, the USD(R&E), in consultation with the DoD Office of the General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the USD(R&E).

Written Statements: In accordance with 5 U.S.C. 1009(a)(3) and 41 CFR 102-3.105(j) and 102-3.140, interested persons may submit a written statement for consideration by the DSB at any time regarding its mission or in response to the stated agenda of a planned meeting. Individuals submitting a written statement must submit their statement to the DSB DFO at the email address provided in the FOR FURTHER INFORMATION CONTACT section at any point; however, if a written statement is not received at least three calendar days prior to the meeting, which is the subject of this notice, then it may not be provided to or considered by the DSB until a later date.

Dated: October 30, 2023.
Aaron T. Siegel,
Alternate OSD Federal Register Liaison Officer, Department of Defense.

[FR Doc. 2023-24415 Filed 11-3-23; 8:45 am]

BILLING CODE 6001-FR-P